DEPARTMENT OF STATE

[Public Notice 5727]

Formation of the United States Delegation to the World Radiocommunication Conference: Request for Expressions of Interest in Being on the United States Delegation

Summary: The International Telecommunication Union (ITU) World Radiocommunication Conference (WRC) will take place from October 22-November 16, 2007 in Geneva, Switzerland. As part of the preparations for the formation of the United States delegation to the World Radiocommunication Conference, the Department of State is requesting expressions of interest in being on this delegation.

All delegation members must be United States citizens. Expressions of interest and a description of what company or organization the interested person represents and his/her area of expertise should be sent to Anne Jillson, International Communications and Information Policy, Department of State. Her e-mail address is jillsonad@state.gov, her fax number is 202 647-5957, and her phone number is 202 647-5205.

Expressions of interest should be received no later than April 10, 2007.

Dated: March 15, 2007.
Anne D. Jillson,
Foreign Affairs Officer, International Communications and Information Policy, Department of State.

[FR Doc. E7-5253 Filed 3-21-07; 8:45 am]

BILLING CODE 4710-07-P